CONSUMER PRODUCT SAFETY COMMISSION

Sunshine Act Meeting

TIME AND DATE: 10 a.m., Thursday, September 21, 2000.

LOCATION: Room 420, East West Towers, 4330 East West Highway, Bethesda, Maryland.

STATUS: Open to the Public.

Matter to be Considered: Bed Rails: The Commission will consider options concerning whether the Commission should issue an advance notice of proposed rulemaking (ANPR) addressing a risk of injury/death associated with certain portable bed rails.

For a recorded message containing the latest agenda information, call (301) 504-0709.

CONTACT PERSON FOR ADDITIONAL INFORMATION: Sadye E. Dunn, Office of the Secretary, 4330 East West Highway, Bethesda, MD 20207, (301) 504-0800.

Dated: September 13, 2000.
Sadye E. Dunn,
Secretary.

[FR Doc. 00-23950 Filed 9-13-00; 3:45 pm]

BILLING CODE 6355-01-M